DEPARTMENT OF THE TREASURY

Fiscal Service

Surety Companies Acceptable on Federal Bonds—Change in Business Address and Redomestication; Safeco National Insurance Company

AGENCY: Financial Management Service, Fiscal Service, Treasury.

ACTION: Notice.

SUMMARY: This is Supplement No. 14 to the Treasury Department Circular 570, 2009 Revision, published July 1, 2009, at 74 FR 31536.

FOR FURTHER INFORMATION CONTACT: Surety Bond Branch at (202) 874-6850.

SUPPLEMENTARY INFORMATION: Notice is hereby given by the Treasury that Safeco National Insurance Company (NAIC# 24759) formally changed its “Business Address” to “62 Maple Avenue, Keene, NH 03431” effective immediately. In addition, Safeco National Insurance Company (NAIC# 24759) has redomesticated from the state of Missouri to the state of New Hampshire effective October 1, 2009. Federal bond-approving officers should annotate their reference copies of the Treasury Circular 570 (“Circular”), 2009 Revision, to reflect these changes.

The Circular may be viewed and downloaded through the Internet at http://www.fms.treas.gov/c570.

Questions concerning this Notice may be directed to the U.S. Department of the Treasury, Financial Management Service, Financial Accounting and Services Division, Surety Bond Branch, 3700 East-West Highway, Room 6F01, Hyattsville, MD 20782.

Dated: June 17, 2010.
William J. Erie,
Acting Director, Financial Accounting and Services Division.

[FR Doc. 2010-15613 Filed 6-29-10; 8:45 am]

BILLING CODE M